DEPARTMENT OF HOMELAND SECURITY

Federal Emergency Management Agency

[Docket ID: FEMA-2022-0019; OMB No. 1660-NW151]

Agency Information Collection Activities: Submission for OMB Review; Comment Request; Survey Following the National Test of the Wireless Emergency Alert (WEA) System

AGENCY: Federal Emergency Management Agency, Department of Homeland Security.

ACTION: 30-Day notice of new collection and request for comments.

SUMMARY: The Federal Emergency Management Agency (FEMA) will submit the information collection abstracted below to the Office of Management and Budget for review and clearance in accordance with the requirements of the Paperwork Reduction Act of 1995. The submission seeks comments concerning a survey following the upcoming national test of the Wireless Emergency Alert (WEA) system.

DATES: Comments must be submitted on or before February 27, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Ward D. Hagood, IPAWS DS2 T&E Manager, FEMA HQ/PNP-NCP-CCD-IPAWS, phone: (202) 212-1478, email: ward.hagood@fema.dhs.gov.

SUPPLEMENTARY INFORMATION: Public Law 114-143, the Integrated Public Alert and Warning System Modernization Act of 2015, and Presidential Executive Order 13407, Public Alert and Warning System, require FEMA to implement the public alert and warning system to disseminate timely and effective warnings to people in situations of war, terrorist attack, natural disaster, or other hazards to public safety and wellbeing, and conduct tests of the public alert and warning system at least once every three years. The Act also requires public education efforts and a general market awareness campaign to ensure understanding of the functions of the public alert and warning system. The Integrated Public Alert and Warning System (IPAWS) is the Department of Homeland Security's (DHS) response to the Executive Order. The Stafford Act (U.S.C. Title 42, chapter 68, subchapter II) requires that FEMA make IPAWS available to Federal, state, local, tribal, and territorial agencies for the purpose of providing warning to governmental authorities and the civilian population in areas endangered by disasters. FEMA is planning a national test of a key component of IPAWS, the Wireless Emergency Alert (WEA) system, to satisfy the testing and public education requirements of the IPAWS Modernization Act of 2015 (Pub. L. 114-143). The WEA system broadcasts alerts to cell phones configured to receive such alerts (which, at this point, is most phones sold in the United States). The WEA national test will be announced in advance by FEMA and widely publicized. The test will help FEMA assess WEA's geographic reach, along with additional key parameters outlined in the IPAWS Modernization Act of 2015. This will help FEMA and other WEA stakeholders, such as the Federal Communications Commission (FCC) and Congressional committees, enhance and expand WEA, and thus further improve emergency alerting capabilities, leading to a better prepared and more resilient nation. FEMA will implement a survey to capture key technical performance factors of WEA, such as geographic coverage and carrier-related issues, as well as non-technical aspects essential to WEA's role in national alerting, including alerting effectiveness in reaching diverse populations, including traditionally underserved populations. The survey will also assess public awareness of the WEA system.

This proposed information collection previously published in the Federal Register on July 7, 2022, at 87 FR 40544 with a 60 day public comment period. FEMA received six public comments. Comments 1 (FEMA-2022-0019-0002), 2 (FEMA-2022-0019-0003), and 4 (FEMA-2022-0019-0005), which provided feedback on technical aspects of the WEA system as opposed to feedback on this specific data collection, were shared with IPAWS. Per comment 3 (FEMA-2022-0019-0004), the 30-Day FRN will also include the draft survey, which will not require advertising since participants will be recruited through established survey panels. Comment 5 (FEMA-2022-0019-0006) referenced a survey that was not affiliated with this data collection. FEMA responded to comment 6 (FEMA-2022-0019-0007) by providing additional detail on the issues raised.

The purpose of this notice is to notify the public that FEMA will submit the information collection abstracted below to the Office of Management and Budget for review and clearance.

Collection of Information

Title: Survey Following the National Test of the Wireless Emergency Alert (WEA) System.

Type of Information Collection: New information collection.

OMB Number: 1660-NW151.

FEMA Form: FEMA Form FF-302-FY-22-101, WEA National Test Survey.

Abstract: FEMA will field a survey following a national test of the WEA system. The survey will capture key technical performance factors, such as geographic coverage and carrier-related issues, and non-technical aspects essential to WEA's role in national alerting, including effectiveness in reaching diverse populations. FEMA will use this information to improve the performance of the WEA system and assess public awareness.

Affected Public: Individuals or households.

Estimated Number of Respondents: 82,586.

Estimated Number of Responses: 82,586.

Estimated Total Annual Burden Hours: 8,092.

Estimated Total Annual Respondent Cost: $328,617.

Estimated Respondents' Operation and Maintenance Costs: $0.

Estimated Respondents' Capital and Start-Up Costs: $0.

Estimated Total Annual Cost to the Federal Government: $2,104,395.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-01555 Filed 1-25-23; 8:45 am]

BILLING CODE 9111-AB-P